DEPARTMENT OF COMMERCE

International Trade Administration

A-552-801

Certain Frozen Fish Fillets from the Socialist Republic of Vietnam: Extension of Time Limit for Final Results of the First Antidumping Duty Administrative Review

AGENCY: Import Administration, International Trade Administration, Department of Commerce.

EFFECTIVE DATE: December 2, 2005.

FOR FURTHER INFORMATION CONTACT: Irene Gorelik or Javier Barrientos, AD/CVD Operations, Office 9, Import Administration, International Trade Administration, U.S. Department of Commerce, 14th Street and Constitution Avenue, NW, Washington, DC 20230; telephone (202) 482-6905 and (202) 482-2243, respectively.

SUPPLEMENTARY INFORMATION:

Background

On September 13, 2005, the Department of Commerce (“the Department”) published its notice of preliminary results for certain frozen fish fillets from the Socialist Republic of Vietnam. See Certain Frozen Fish Fillets from the Socialist Republic of Vietnam: Preliminary Results and Preliminary Partial Rescission of Antidumping Duty Administrative Review, 70 FR 54007 (September 13, 2005). From October 10, 2005, through October 14, 2005, the Department conducted a verification of questionnaire responses, sales, and cost data of Vinh Hoan Co., Ltd. (“Vinh Hoan”) and Can Tho Agricultural and Animal Products Import Export Company (“CATACO”). The verification report for CATACO was issued on November 1, 2005. The verification report for Vinh Hoan was issued on November 14, 2005. The final results are currently due on January 11, 2006.

Extension of Time Limit for Final Results

Pursuant to section 751(a)(3)(A) of the Tariff Act of 1930, as amended (“the Act”), the Department shall issue final results in an administrative review of an antidumping duty order 120 days after the date on which the preliminary results are published. The Act further provides, however, that the Department may extend that 120-day period to 180 days if it determines it is not practicable to complete the review within the foregoing time period. The Department finds that it is not practicable to complete the final results in the administrative review of certain frozen fish fillets from Vietnam within this time limit. Specifically, the Department needs additional time to consider the verification results and the resulting changes to the margin calculations. Additionally, the Department is extending the deadline for the final results to accommodate parties' public hearing request so parties may address all issues. Accordingly, the Department finds that additional time is required to complete these final results.

Section 751(a)(3)(A) of the Act and section 351.213(h)(2) of the Department's regulations allow the Department to extend the deadline for the final results to a maximum of 180 days from the publication date of the preliminary results. For the reasons noted above, we are extending the time for the completion of the final results of this review by 60 days, until no later than March 13, 2006. This notice is published in accordance with section 751(a)(3)(A) of the Act and section 351.213(h)(2) of the Department's regulations.

Dated: November 29, 2005.
Stephen J. Claeys,
Deputy Assistant Secretary for Import Administration.

[FR Doc. 05-23564 Filed 12-1-05; 8:45 am]

BILLING CODE 3510-DS-S